ENVIRONMENTAL PROTECTION AGENCY

[FRL-6972-2]

Agency Information Collection Activities: Proposed Collection; Comment Request; Public Water System Supervision Program Primacy Regulation

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Information Collection Request for the Public Water System Supervision Primacy Regulation, ICR Number 1836.01, OMB Control Number 2040-0195. The current ICR approval expires on September 30, 2001. Before submitting the ICR to OMB for review and approval, EPA is soliciting comments on specific aspects of the proposed information collection as described below.

DATES: Comments must be submitted on or before July 2, 2001.

ADDRESSES: To obtain a copy of the currently approved Information Collection Request for the Primacy Regulation without charge, please contact the Safe Drinking Water Hotline (800-426-4791). Hours of operation are 9 a.m. to 5:30 p.m. (ET), Monday-Friday, excluding Federal holidays. Copies are also available from the Office of Water Resource Center (RC 4100), US EPA Headquarters, 401 M Street, SW., Washington, DC 20460. People interested in getting information or making comments about this ICR should direct inquiries or comments to the Office of Ground Water and Drinking Water, Drinking Water Protection Division, Mail Code 4606, 1200 Pennsylvania Avenue, NW., Washington, DC 20460.

FOR FURTHER INFORMATION CONTACT: Jennifer Melch; Protection Branch; Office of Ground Water and Drinking Water; EPA (4606), Ariel Rios Building, 1200 Pennsylvania Ave, NW., Washington, DC 20460; telephone (202) 260-7035, or melch.jennifer@epa.gov.

SUPPLEMENTARY INFORMATION: Affected entities: Entities potentially affected by this action are those which have primary enforcement authority for the PWSS program.

Title: Information Collection Request for the Public Water System Supervision Program Primacy Regulation, (ICR Number 1836.01, OMB Control Number 2040-0195), expiring on September 30, 2001.

Abstract: This information collection is necessary because the Safe Drinking Water Act (SDWA) Amendments of 1996 added a new element to the requirements for states to obtain and/or retain primacy for the Public Water System Supervision (PWSS) program. In order for EPA to determine whether states meet the new administrative penalty authority requirement, states must submit a copy of their legislation authorizing the penalty authority and a description of their authority for administrative penalties that will ensure adequate compliance of systems serving a population of 10,000 individuals or less. In accordance with the procedures outlined in section 142.11(7)(i) and section 142.12 (c)(iii), the State Attorney General must certify that the laws and regulations were duly adopted and are enforceable. Alternatively, if a state constitution prohibits assessing administrative penalties, the state must submit a copy of the relevant provision of the constitution as well as an Attorney General's statement confirming that interpretation. Furthermore, as provided in section 142.11(a)(7)(ii) and section 142.12(c), EPA may additionally require supplemental statements from the State Attorney General, (such as an interpretation of the statutory language), when the above supplied information is deemed insufficient for a decision. An agency may not conduct or sponsor, and a person is not required to respond to, a collection of information unless it displays a currently valid OMB control number. The OMB control numbers for EPA's regulations are listed in 40 CFR part 9 and 48 CFR chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: In the EPA ICR No. Number 1836.01, OMB Control Number 2040-0195, for 1998-2001, the total burden was estimated to be approximately 696.20 hours at a cost of $37,954.63. These figures were based on the one time effort of approximately 12 hours and 26 minutes by each of the 56 states who wish to adopt the administrative penalty authority necessary in order to obtain or retain primacy. This estimate includes the time for gathering, analyzing, writing, and reporting information. There will be no capital, start-up, or operation and maintenance costs. This data collection does not involve periodic reporting or recordkeeping. Since approximately one half of the states have already submitted revision applications, we estimate the burden for the continuing ICR to be $18,977.32. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 25, 2001.
Phil Oshida,
Acting Director, Office of Ground Water and Drinking Water.

[FR Doc. 01-10993 Filed 5-1-01; 8:45 am]

BILLING CODE 6560-50-P